DEPARTMENT OF LABOR

Veterans' Employment and Training

41 CFR Part 61-250

RIN 1293-AA07

Annual Report From Federal Contractors

AGENCY: Veterans' Employment and Training, Labor.

ACTION: Notice of proposed rulemaking.

SUMMARY: This proposed rule would amend regulations to implement certain provisions of the Veterans Employment Opportunity Act of 1998 (“VEOA”). Under the current version of that part, pursuant to the Vietnam Era Veterans' Readjustment Act of 1974, as amended (“VEVRAA”), all contractors and subcontractors with Federal contracts in excess of $10,000 are required to use the Federal Contractor Veterans' Employment Report VETS-100 form (“VETS-100 Report”) to report their efforts toward the hiring of qualified veterans in two specified categories. Section 7 of VEOA raised the reporting threshold from $10,000 to $25,000, and added a third category of veterans to the required reports. This rule would implement those changes, along with other changes that either are required by VEOA or will improve the administration of the related veterans' programs.

DATES: To be assured of consideration, comments must be received on or before December 4, 2000.

ADDRESSES: Comments should be sent to Robert Wilson, Chief, Compliance Programs, VETS, by regular mail at the U.S. Department of Labor, Room S-1316, 200 Constitution Avenue, NW, Washington, D.C. 20210, or by e-mail at Wilson-Robert@ dol.gov. Written comments limited to 10 pages or fewer also may be transmitted by facsimile (FAX) at (202) 693-4755. Receipt of submissions, whether by U.S. mail, e-mail or FAX transmittal, will not be acknowledged; however, the sender may request confirmation that a submission has been received, by telephoning VETS at (202) 693-4717(VOICE) or 1(877)670-7008 (TTY/TDD).

Comments will be available for public inspection during normal business hours at the above address. Persons who need assistance to review the comments will be provided with appropriate aids such as readers or print magnifiers. Copies of this Notice of Proposed Rulemaking (“NPRM”) will be made available in the following formats: large print, electronic file on computer disk, and audio tape. To schedule an appointment to review the comments and/or to obtain the Notice of Proposed Rulemaking in an alternate format, contact VETS at the telephone numbers and addresses listed above.

FOR FURTHER INFORMATION CONTACT: Robert Wilson, Chief, Compliance Programs, VETS, at the addresses and telephone numbers listed above.

SUPPLEMENTARY INFORMATION: The preamble to this NPRM is organized as follows:

I. Background—provides a brief description of the development of these proposed regulations.

II. Authority—cites the statutory provisions supporting these regulations and Departmental redelegation authority.

III. Section-by-Section Review of the Rule—summarizes pertinent aspects of the regulatory text and describes its purposes and application.

IV. Regulatory Procedure—sets forth the applicable regulatory requirements.

I. Background

President Clinton signed VEOA into law in October 1998. The statute extended the affirmative action and reporting responsibilities of Federal contractors and subcontractors, which previously protected veterans of the Vietnam era and special disabled veterans, to include any other U.S. veterans who served on active duty during a war or in a campaign or expedition for which a campaign badge has been authorized. VEOA raised the reporting threshold for Federal contractors and subcontractors from $10,000 to $25,000. VEOA also added the requirement that contractors and subcontractors report to the Secretary of Labor the maximum number and the minimum number of persons they employed during the reporting period.

In addition, in 1998, VETS changed the annual deadline for submission of the VETS-100 Report from March 31 to September 30. This change was intended to conform the VETS-100 reporting cycle to that of the EEO-1 Report, and thereby reduce the reporting burden on contractors.

The proposed rule would incorporate both these substantive changes and additional stylistic and/or phrasing changes. The latter changes were prompted by the June 1, 1998, Presidential Memorandum on Plain Language, which instructed Federal Departments and Agencies to write regulations in language understandable to most people. Accordingly, VETS has reworded subsection topic header statements into the form of questions; replaced the term “shall” with “must” (to indicate an obligation) or “will” (to indicate a future action), as appropriate; and altered the wording of the regulations in other ways, as described below in Section III, “Section-by-Section Review of the Rule.” These changes are intended to enhance the readability and usefulness of the regulations.

II. Authority

A. Statutory Authority

The statutory authorities for this NPRM are Sections 7 and 8 of VEOA (38 U.S.C. § 4212(d)); VEVRAA, as amended, 38 U.S.C. 101 et seq., Pub. L. 93-508, 88 Stat. 1578; and the Veterans' Benefits Improvements Act of 1996 (“VBIA”), 38 U.S.C. 101(29), Pub. L. 104-275, 110 Stat. 3322.

B. Departmental Authorization

Secretary's Order 1-83, Section 3(a), authorized the Assistant Secretary of Labor for Veterans' Employment and Training to develop and implement policies required to administer and enforce statutes dealing with veterans' reemployment, including VEVRAA. Secretary's Order 4-83 redesignated the Office of the Assistant Secretary of Labor for Veterans' Employment and Training as the Veterans' Employment and Training Service, or VETS.

III. Section-by-Section Review of the Rule

Throughout the rule, minor language changes have been made to comply with the Presidential Memorandum on Plain Language by clarifying the wording of the regulations. Unless specified below, none of these changes are intended to alter the substantive meaning of the regulations.

In addition, throughout the rule, references to the U.S. Code have been corrected to reflect the numbering changes effected by VEOA and the Veterans' Benefit Improvement Act of 1996 (VBIA); similarly, references to the regulations promulgated by the Office of Federal Contract Compliance Programs (“OFCCP”) have been amended to reflect changes to those regulations, including new section numbers, that took effect on January 4, 1999. See Affirmative Action and Nondiscrimination Obligations of Contractors and Subcontractors Regarding Special Disabled Veterans and Vietnam Era Veterans; Final Rule, 63 FR 59630 et seq. (November 4, 1998). Finally, the former Veterans' Administration (“VA”) has been upgraded to a Cabinet-level agency; therefore, references to the VA throughout the rule have been changed to use the agency's new name, the Department of Veterans' Affairs.

Sections or paragraphs of the rule that are not discussed in this preamble have not been changed in any substantive way from the previous version of the regulations.

Section 250.1 What Are the Purpose And Scope of This Part?

This section would outline the purpose and scope of the regulations. Paragraph (a) would correct the regulations' citation to the U.S. Code, as amended by VEOA; would reflect the new reporting threshold; and would indicate which contractors would be required to file reports under the regulations. Paragraph (d) would direct readers to the OFCCP regulations that govern the affirmative action obligations of contractors and subcontractors toward protected veterans.

Section 250.2 What Definitions Apply to This Part?

This section would provide the definitions that would apply to this part. Paragraph (b)(1) would update the reference to the Standard Industrial Classification Manual from the 1972 edition to the 1987 edition, and would add the acronym for the Employer Identification Number (EIN). Paragraph (b)(4), the definition of “special disabled veteran,” would be amended to clarify that in order to be protected, veterans must have served in the military, ground, naval, or air service of the United States, and not of any other nation. The definition of “veteran of the Vietnam era” in paragraph (b)(5) would be amended to add a similar clarification, and also to conform to the statutory definition of the term at 38 U.S.C. 101(29), which was altered by VBIA. Paragraph (b)(6) would be amended to define “other veterans,” as required by VEOA. Paragraphs (b)(9) and (b)(10) would add definitions for the terms “states” and “eligibility period,” respectively.

Section 250.10 What Reporting Requirements Apply to Federal Contractors and Subcontractors, and What Specific Wording Must the Reporting Requirements Contract Clause Contain?

This section would continue the requirement that covered Federal contractors and subcontractors submit reports at least annually regarding their hiring and continued employment of veterans in the three categories defined in the proposed Section 250.2. It also would amend the required language for the contract clause that must be included in each covered Federal contract and subcontract. Paragraphs (a)(1) and (a)(2) of the amended clause would add the requirement that contractors and subcontractors report on their employment of “other veterans,” as defined in Section 250.2; paragraph (a)(3) would require contractors and subcontractors to report the maximum number and minimum number of persons employed during the reporting period. Both of these changes are required by VEOA.

Paragraph (c) of the amended clause would change the annual deadline for submitting the VETS-100 Report from March 31 to September 30, to conform with the EEO-1 reporting date, as explained in the “Background” section above. The same paragraph would define the eligibility period for the report. Paragraph (d) would amend the definition of the reporting period. Contractors and subcontractors would still be able to select an ending date for the period; however, the range of permissible dates would be changed. The previous version of the clause permitted ending dates between January 1 and March 1; the amended version would permit ending dates between July 1 and August 31.

Paragraph (e) would be revised to indicate that both contractors and subcontractors must comply with the voluntary disclosure requirements, pursuant to OFCCP regulations at 41 CFR 60-250.42.

Section 61-250.11 On What Form Must the Data Required Above Be Submitted?

This section would amend the proposed form and instructions for completing the VETS-100 Report, and provide new avenues for submission of the report.

Paragraph (a): This paragraph of the proposed section would provide a copy of the amended form and the text of the amended instructions. The introduction to the instructions would be amended to clarify that a separate report must be completed for each hiring location in all States, as those two terms would be defined under the proposed Section 250.2. The term “supplemental” would be deleted to emphasize that the obligation to complete and submit the VETS-100 Report is separate from the obligation to complete and submit the EEO-1 Report.

Instructions: The section of the instructions entitled “How to Prepare Form” would be amended to insert an explanation of the meaning of shaded areas on the form, as well as instructions for determining the reporting period by selecting an ending date for the report. The latter information is not new; under the proposed rule, it would be moved from a different section of the instructions in order to emphasize that the reporting period applies to the entire report.

The section of the instructions entitled “Company Identification” would be revised to require reporting of the contractor's Standard Industrial Code (SIC) and Dun and Bradstreet I.D. number (DUNS), if available, in addition to the EIN that is already required. These changes will assist VETS in identifying Federal contractors and subcontractors.

The section entitled “Information on Employees,” previously called “Information on Veterans,” would be revised in a number of ways. The paragraph “Counting veterans” would be added, in response to numerous questions from contractors, to clarify how contractors must count veterans who fall into more than one category. The paragraph “Data on Current Employees” would amend a currently untitled paragraph to explain which payroll period should be used to provide the data, which full-time and part-time employees must be included in the data, and which data are optional, and to comply with VEOA by expanding the categories of veterans who must be included. The paragraph “Data on New Hires” (titled “New Hires Data” in the current regulation) would be amended to explain which data in this section are optional, and to delete the explanation of how to select the reporting period; this explanation, as noted above, would be moved to the section headed “How to Prepare Form.” The new paragraph “Maximum and minimum number of employees” would comply with VEOA by requiring contractors and subcontractors to report the maximum and minimum number of persons employed during the reporting period.

In the “Definitions” section, the definitions of the terms “special disabled veteran” and “veteran of the Vietnam era” would be amended, and a definition of “other veterans” would be added, in the same ways, and for the same reasons, as the definitions of the same terms in 41 CFR 61-250.2, as described above. The section “Legal Basis for Reporting Requirements” would be amended as required by VEOA.

Paragraph (b): This paragraph would require most contractors and subcontractors who submit computer-generated output to do so in the form of an electronic file. This requirement is intended to reduce the cost of submitting the VETS-100 form for contractors and of tallying the information on the form for the Federal government.

Paragraph (c): This paragraph would be added to provide small business the opportunity to submit the VETS-100 Report via the Internet and to obtain a company number via e-mail.

Paragraph (e): This paragraph would be revised to change the filing deadline to September 30, as explained above, and to include an Internet address to obtain VETS-100 information.

Section 61-250.12 What Invitation to Self-Identify Must a Contractor Offer to Veterans?

This section would be revised in minor ways. The phrase “and subcontractors” would be added to the first sentence, to clarify that covered subcontractors, as well as covered contractors, must invite veterans to self-identify, and must comply with the voluntary disclosure requirements when issuing that invitation. “Other veterans,” as defined in Section 61-250.2, would be added to the categories of veterans who must receive the invitation, pursuant to VEOA.

Section 61-250.20 How Will DOL Determine Whether a Contractor or Subcontractor is Complying With the Requirements of This Part?

The language of this section would be amended to clarify that during the course of a compliance evaluation, OFCCP may determine whether a contractor or subcontractor has submitted the reports required by this part.

Section 61-250.99 What are the OMB Control Numbers for This Part?

This section would be updated to reflect the most recent regulations implementing the Paperwork Reduction Act.

IV. Regulatory Procedures

Paperwork Reduction Act Approval

This proposed rule contains information collections which are subject to review by the Office of Management and Budget (OMB) under the Paperwork Reduction Act of 1995. The proposed rule would revise regulations which contain information collection requirements which are currently approved under OMB No. 293-0005. The proposal includes new data reporting requirements. We estimate the collection burden to be 30 minutes per respondent. A description of the information to be collected is shown below.

Contractors and subcontractors will be required to collect data on a new category of veterans, “other veterans.” Additionally, contractors and subcontractors must report the maximum and minimum number of persons employed during the reporting period. Both of these changes are required by VEOA. Company identification information is revised to request the submission of a contractor's Standard Industrial Code (SIC) and require the Dun and Bradstreet I.D. number (DUNS), if available.

VETS invites the public to comment on whether each of the proposed collections of information: (1) Ensures that the collection of information is necessary to the proper performance of the agency, including whether the information will have practical utility; (2) estimates the projected burden, including the validity of the methodology and assumptions used, accurately; (3) enhances the quality, utility, and clarity of the information to be collected; and (4) minimizes the burden of the collection of information on those who are to respond, including through the use of appropriate automated, electronic, mechanical, or other technological collection techniques or other forms of information technology (e.g., permitting electronic submission of responses).

Executive Order 12866, Regulatory Planning and Review

The Department of Labor has determined that this Proposed Rule is not a “significant regulatory action” under Executive Order 12866 because this action will not: (1) Have an annual effect on the economy of $100 million or more, or adversely affect in a material way the economy, a sector of the economy, productivity, competition, jobs, the environment, public health or safety, or State, local, or tribal governments or communities; (2) create a serious inconsistency, or otherwise interfere, with an action taken or planned by another agency; (3) materially alter the budgetary impact of entitlements, grants, user fees, or loan programs, or the rights and obligations of recipients thereof; or (4) raise novel legal or policy issues arising out of legal mandates, the President's priorities, or the principles set forth in Executive Order 12866. Therefore, no regulatory impact analysis is required.

Unfunded Mandates

Executive Order 12875—This rule will not create an unfunded Federal Mandate upon any State, local, or tribal government. Unfunded Mandate Reform Act of 1995—This rule will not include any Federal mandate that may result in increased expenditures by State, local and tribal governments in the aggregate of $100 million or more, or increased expenditures by the private sector of $100 million or more.

Executive Order 13132, Federalism

This Notice of Proposed Rule Making will not have substantial direct effects on the States, on the relationship between the national government and the States, or on the distribution of power and responsibilities among the various levels of government. Therefore, the requirements of section 6 of Executive Order 13132 do not apply to this rule.

Regulatory Flexibility Act

This Notice of Proposed Rulemaking does not substantially change the existing obligation of Federal contractors or subcontractors. The Department of Labor certifies that the proposed rule will not have a significant economic impact on a substantial number of small business entities. Therefore, no regulatory flexibility analysis is required.

Clarity of This Regulation

Executive Order 12866 and the President's memorandum of June 1, 1998, require each agency to write all rules in plain language. The Department invites comments on how to make this proposed rule easier to understand. For example:

—Have we organized the material to suit your needs?

—Are the requirements in the rule clearly stated?

—Does the rule contain technical language or jargon that isn't clear?

—Would a different format (grouping and order of sections, use of headings, paragraphing) make the rule easier to understand?

—Would more (but shorter) sections be better?

—Could we improve clarity by adding tables, lists, or diagrams?

—What else could we do to make the rule easier to understand?

List of Subjects in 41 CFR Part 61-250

Government contracts, Reporting and recordkeeping requirements, Veterans.

Signed at Washington, D.C., this 26th day of September 2000.
Alexis M. Herman,
Secretary of Labor.

Accordingly, title 41, part 61-250 of the Code of Federal Regulations is proposed to be revised to read as follows:

PART 61-250—ANNUAL REPORT FROM FEDERAL CONTRACTORS

Sec.
61-250.1 What are the purpose and scope of this part?
61-250.2 What definitions apply to this part?
61-250.10 What reporting requirements apply to Federal contractors and subcontractors, and what specific wording must the reporting requirements contract clause contain?
61-250.11 On what form must the data required by this part be submitted?
61-250.12 What invitation to self-identify must a contractor offer to veterans?
61-250.20 How will DOL determine whether a contractor or subcontractor is complying with the requirements of this part?
61-250.99 What are the OMB control numbers for this part?

Authority: 38 U.S.C. 4212(d).

§ 61-250.1 What are the purpose and scope of this part?

(a) This part 61-250 implements 38 U.S.C. 4212(d). Each contractor or subcontractor who enters into a contract in the amount of $25,000 or more with any department or agency of the United States for the procurement of personal property and non-personal services (including construction), and who is subject to 38 U.S.C. 4212(a) and the Office of Federal Contract Compliance Programs (OFCCP) regulations at 41 CFR part 60-250, must submit a report according to the requirements of § 61-250.10 of this part.

(b) Except as noted in § 61-250.10 of this part, the regulations at 41 CFR part 60-250, administered by OFCCP, continue to apply to contractors' and subcontractors' affirmative action obligations regarding veterans.

(c) Reporting requirements of this part regarding veterans will be deemed waived in those instances in which the Deputy Assistant Secretary, OFCCP, has granted a waiver under 41 CFR 60-250.4(b)(1), or has concurred in granting a waiver under 41 CFR 60-250.4(b)(2), from compliance with all the terms of the equal opportunity clause for those establishments not involved in government contract work. Where OFCCP grants only a partial waiver, compliance with these reporting requirements regarding veterans will be required.

(d) 41 CFR 60-250.42 and Appendix B to part 60-250 provide guidance concerning the affirmative action obligations of Federal contractors and subcontractors toward applicants for employment who are special disabled veterans, veterans of the Vietnam era, or other veterans as defined in this part.

§ 61-250.2 What definitions apply to this part?

(a) For purposes of this part, and unless otherwise indicated in paragraph (b) of this section, the terms set forth in this part have the same meaning as set forth in 41 CFR part 60-250.

(b) For purposes of this part:

(1) Hiring location (identical to establishment as defined by the instructions for completing Standard Form 100, Equal Employment Opportunity Employer Information Report EEO-1) means an economic unit which produces goods or services, such as a factory, office, store, or mine. In most instances the establishment is at a single physical location and is engaged in one, or predominantly one, type of economic activity (definition adapted from the 1987 Standard Industrial Classification Manual). Units at different locations, even though engaged in the same kind of business operation, should be reported as separate establishments. For locations involving construction, transportation, communications, electric, gas, and sanitary services, oil and gas fields, and similar types of physically dispersed industrial activities, however, it is not necessary to list separately each individual site, project, field, line, etc., unless it is treated by the contractor as a separate legal entity with a separate Employer Identification Number (EIN). For these physically dispersed activities, list as establishments only those relatively permanent main or branch offices, terminals, stations, etc., which are either:

(i) Directly responsible for supervising such dispersed activities, or

(ii) The base from which personnel and equipment operate to carry out these activities. (Where these dispersed activities cross State lines, at least one such establishment should be listed for each State involved.)

(2) Employee means any individual on the payroll of an employer who is an employee for purposes of the employer's withholding of Social Security taxes except insurance salespersons who are considered to be employees for such purposes solely because of the provisions of section 3121(d)(3)(B) of the Internal Revenue Code (26 U.S.C.). The term employee does not include persons who are hired on a casual basis for a specified time, or for the duration of a specified job, and who work on remote or scattered sites or locations where it is not practical or feasible for the employer to make a visual survey of the work force within the report period; for example, persons at a construction site whose employment relationship is expected to terminate with the end of the employees' work at the site; persons temporarily employed in any industry other than construction, such as mariners, stevedores, waiters/waitresses, movie extras, agricultural laborers, lumber yard workers, etc., who are obtained through a hiring hall or other referral arrangement, through an employee contractor or agent, or by some individual hiring arrangement; or persons on the payroll of a temporary service agency who are referred by such agency for work to be performed on the premises of another employer under that employer's direction and control.

(3) Job category means any of the following: Officials and managers, professionals, technicians, sales workers, office and clerical, craft workers (skilled), operatives (semiskilled), laborers (unskilled), service workers, as required by Standard Form 100, Equal Employment Opportunity Employer Information Report EEO-1, as defined as follows:

(i) Officials and managers means occupations requiring administrative and managerial personnel who set broad policies, exercise overall responsibility for execution of these policies, and direct individual departments or special phases of a firm's operation. Includes: Officials, executives, middle management, plant managers, department managers and superintendents, salaried supervisors who are members of management, purchasing agents and buyers, railroad conductors and yard masters, ship captains and mates (except fishing boats), farm operators and managers, and kindred workers.

(ii) Professionals means occupations requiring either college graduation or experience of such kind and amount as to provide a background comparable to college education. Includes: Accountants and auditors, airplane pilots and navigators, architects, artists, chemists, designers, dietitians, editors, engineers, lawyers, librarians, mathematicians, natural scientists, registered professional nurses, personnel and labor relations specialists, physical scientists, physicians, social scientists, surveyors, teachers, and kindred workers.

(iii) Technicians means occupations requiring a combination of basic scientific knowledge and manual skill which can be obtained through about 2 years of post-high school education, such as is offered in many technical institutes and junior colleges, or through equivalent on-the-job training. Includes: Computer programmers and operators, drafters, engineering aides, junior engineers, mathematical aides, licensed, practical or vocational nurses, photographers, radio operators, scientific assistants, technical illustrators, technicians (medical, dental, electronic, physical science), and kindred workers.

(iv) Sales means occupations engaging wholly or primarily in direct selling. Includes: Advertising agents and sales workers, insurance agents and brokers, real estate agents and brokers, stock and bond sales workers, demonstrators, sales workers and sales clerks, grocery clerks and cashier-checkers, and kindred workers.

(v) Office and clerical includes all clerical-type work regardless of level of difficulty, where the activities are predominantly non-manual though some manual work not directly involved with altering or transporting the products is included. Includes bookkeepers, cashiers, collectors (bills and accounts), messengers and office helpers, office machine operators, shipping and receiving clerks, stenographers, typists and secretaries, telegraph and telephone operators, legal assistants, and kindred workers.

(vi) Craft Workers (skilled) means manual workers of relatively high skill level having a thorough and comprehensive knowledge of the processes involved in their work. These workers exercise considerable independent judgment and usually receive an extensive period of training. Includes: The building trades, hourly paid supervisors and lead operators who are not members of management, mechanics and repairers, skilled machining occupations, compositors and typesetters, electricians, engravers, job setters (metal), motion picture projectionists, pattern and model makers, stationary engineers, tailors, arts occupations, hand painters, coaters, decorative workers, and kindred workers.

(vii) Operatives (semiskilled) means workers who operate machine or processing equipment or perform other factory-type duties of intermediate skill level which can be mastered in a few weeks and require only limited training. Includes: Apprentices (auto mechanics, plumbers, bricklayers, carpenters, electricians, machinists, mechanics, building trades, metalworking trades, printing trades, etc.), operatives, attendants (auto service and parking), blasters, chauffeurs, delivery workers, dressmakers and sewers (except factory), dryers, furnace workers, heaters (metal), laundry and dry cleaning operatives, milliners, mine operatives and laborers, motor operators, oilers and greasers (except auto), painters (except construction and maintenance), photographic process workers, stationary firefighters, truck and tractor drivers, weavers (textile), welders and flamecutters, electrical and electronic equipment assemblers, butchers and meat cutters, inspectors, testers and graders, handpackers and packagers, and kindred workers.

(viii) Laborers (unskilled) means workers in manual occupations which generally require no special training to perform elementary duties that may be learned in a few days and require the application of little or no independent judgment. Includes: Garage laborers, car washers and greasers, gardeners (except farm) and grounds keepers, stevedores, wood choppers, laborers performing lifting, digging, mixing, loading and pulling operations, and kindred workers.

(ix) Service Workers means workers in both protective and non-protective service occupations. Includes: Attendants (hospital and other institutions, professional and personal service, including nurses aides and orderlies), barbers, charworkers and cleaners, cooks (except household), counter and fountain workers, elevator operators, firefighters and fire protection workers, guards, doorkeepers, stewards, janitors, police officers and detectives, porters, servers, amusement and recreation facilities attendants, guides, ushers, public transportation attendants, and kindred workers.

(4) Special disabled veteran means—

(i) A veteran of the U.S. military, ground, naval or air service who is entitled to compensation (or who but for the receipt of military retired pay would be entitled to compensation) under laws administered by the Department of Veterans Affairs for a disability:

(A) Rated at 30 percent or more, or

(B) Rated at 10 or 20 percent in the case of a veteran who has been determined under section 38 U.S.C. 3106 to have a serious employment handicap; or

(ii) A person who was discharged or released from active duty because of a service-connected disability.

(5) Veteran of the Vietnam era means a veteran:

(i) Who served on active duty in the U.S. military, ground, naval or air service for a period of more than 180 days, and who was discharged or released therefrom with other than a dishonorable discharge, if any part of such active duty was performed:

(A) In the Republic of Vietnam between February 28, 1961, and May 7, 1975, or

(B) Between August 5, 1964 and May 7, 1975 in any other location; or

(ii) Who was discharged or released from active duty in the U.S. military, ground, naval or air service for a service-connected disability, if any part of such active duty was performed:

(A) In the Republic of Vietnam between February 28, 1961, and May 7, 1975; or

(B) Between August 5, 1964, and May 7, 1975, in any other location.

(6) Other veterans means any other veterans who served on active duty in the U.S. military, ground, naval or air service during a war or in a campaign or expedition for which a campaign badge has been authorized.

(7) OFCCP means the Office of Federal Contract Compliance Programs, Employment Standards Administration, U.S. Department of Labor.

(8) OASVET means the Office of the Assistant Secretary for Veterans' Employment and Training, U.S. Department of Labor.

(9) States means the individual states of the United States, the Distict of Columbia, the Commonwealth of Puerto Rico, the Virgin Islands, American Samoa, Guam, Wake Island, the Commonwealth of the Northern Mariana Islands, the Federated States of Micronesia, the Republic of the Marshall Islands, and Palau.

(10) Eligibility period means the calendar year (January 1 through December 31) preceding the year in which the report must be filed. This calendar year is the same year in which the contractor received the Federal contract.

§ 61-250.10 What reporting requirements apply to Federal contractors and subcontractors, and what specific wording must the reporting requirements contract clause contain?

Each contractor or subcontractor described in § 61-250.1 of this part must submit reports in accordance with the following reporting clause, which must be included in each of its covered government contracts or subcontracts (and modifications, renewals, or extensions thereof if not included in the original contract). Such clause is considered as an addition to the equal opportunity action clause required by 41 CFR 60-250.5. The reporting requirements clause is as follows:

EMPLOYMENT REPORTS ON SPECIAL DISABLED VETERANS, VETERANS OF THE VIETNAM ERA, AND OTHER VETERANS

(a) The contractor or subcontractor agrees to report at least annually, as required by the Secretary of Labor, on:

(1) The number of current employees in each job category and at each hiring location who are special disabled veterans, the number who are veterans of the Vietnam era, and the number who are other veterans who served on active duty during a war or in a campaign or expedition for which a campaign badge has been authorized;

(2) The total number of new employees hired during the period covered by the report, and of that total, the number who are special disabled veterans, the number who are veterans of the Vietnam era, and the number who are other veterans as defined above; and

(3) The maximum number and minimum number of employees of such contractor at each hiring location during the period covered by the report.

(b) The above items must be reported by completing the form entitled “Federal Contractor Veterans' Employment Report VETS-100.”

(c) VETS-100 reports must be submitted no later than September 30 of each year beginning September 30, 2000. The eligibility period (the period during which an employer received a Federal contract) for this report and all subsequent reports is the calendar year (January 1 through December 31) that precedes the year in which the report is submitted.

(d) The employment activity report required by paragraphs (a)(2) and (a)(3) of this section must reflect total new hires and maximum and minimum number of employees during the 12-month period preceding the ending date that the contractor selects for the current employment report required by paragraph (a)(1) of this section. Contractors may select an ending date: (1) As of the end of any pay period during the period July 1 through August 31 of the year the report is due; or (2) as of December 31, if the contractor has previous written approval from the Equal Employment Opportunity Commission to do so for purposes of submitting the Employer Information Report EEO-1 (Standard Form 100).

(e) The number of veterans reported according to paragraph (a) above must be based on voluntary disclosure. Each contractor and subcontractor subject to the reporting requirements at 38 U.S.C. 4212(d) must invite all applicants for employment who are veterans who fall into one of the categories in paragraph (a)(1) above, and who wish to benefit under the affirmative action program at 38 U.S.C. 4212, to identify themselves to the contractor. The invitation must state that the information is voluntarily provided, that the information will be kept confidential, that disclosure or refusal to provide the information will not subject the applicant to any adverse treatment, and that the information will be used only in accordance with the regulations promulgated under 38 U.S.C. 4212. Nothing in this paragraph (e) precludes an employee from informing a contractor or subcontractor at a future time of his or her desire to benefit from this program. Nothing in this paragraph (e) relieves a contractor from liability for discrimination under 38 U.S.C. 4212.

§ 61-250.11 On what form must the data required by this part be submitted?

(a) Data items required in paragraph (a) of the contract clause set forth in § 61-250.10 must be reported for each hiring location on the VETS-100 form. This form is mailed annually to those employers who are included in the VETS-100 data base. The form, and instructions for preparing it, are also set forth as follows:

THE VETS-100 REPORT FORM IS REPRINTED AS APPENDIX A TO 41 CFR PART 61-250

This report is to be completed by all nonexempt contractors and subcontractors with contracts (or subcontracts) for the furnishing of supplies and services or the use of real or personal property (including construction) for $25,000 or more. Reports must be completed for each hiring location in any State, as defined in 41 CFR 61-250.2(b). All multi-establishment employers, i.e., those doing business at more than one hiring location, must file: (1) a report covering the principal or headquarters office; (2) a separate report for each hiring location employing 50 or more persons; and (3) either (i) a separate report for each hiring location employing fewer than 50 persons, or (ii) consolidated reports, by State, covering the hiring locations within the State that have fewer than 50 employees. Each consolidated report must also list the names and addresses of all hiring locations covered by the report.

HOW TO PREPARE FORM

Shaded areas designate optional information. Answers to questions in all other areas of the form are mandatory. Contractors should determine the period covered by the report (“the reporting period”) by selecting an ending date for the report. The ending date may fall either: (1) At the end of any pay period during the period July 1 through August 31 of the year the report is due; or (2) On December 31, if the contractor has previous written approval from the Equal Employment Opportunity Commission to use that date for purposes of submitting the Employer Information Report EEO-1 (Standard Form 100). The report must cover the twelve consecutive months preceding the selected ending date.

COMPANY IDENTIFICATION

Parent Company. Please provide the company name, address, and employer identification number (EIN) of the headquarters office of the multi-hiring location company that owns the hiring location for which this report is filed. The EIN is mandatory; the Dun and Bradstreet I.D. number (DUNS) is mandatory if available; and the Standard Industrial Code (SIC) should also be reported if available.

Hiring Location for Which This Report Is Filed. Please provide the name, address, and EIN for each hiring location for which this report is filed. The EIN is mandatory; the SIC and the DUNS should also be reported if available.

INFORMATION ON EMPLOYEES

(Veterans and non-veterans)

Counting veterans: Some veterans will fall into more than one of the targeted veteran categories. For example, a veteran may be both a special disabled veteran and a Vietnam era veteran. In such cases, the veteran must be counted in both categories.

Data on Current Employees: The payroll period for this data is the period that ends on the date the contractor selects as the ending date for the entire report, according to the instructions above in “How to Prepare Form.” The data must include all permanent full-time and part-time employees who were employed as of the ending date of the selected payroll period, except those employees specifically excluded as indicated in 41 CFR 61-250.2(b)(2). Employees must be counted by veteran status (columns L, M, and N—special disabled veterans, Vietnam-era, or other veterans as defined below) for each of the nine occupational categories. Entries in the Total line of columns L, M, and N are optional.

Data on New Hires: Report on the Total line in columns O through R the number of regular full-time and part-time employees, by veteran status (columns O, P, and Q) and total employees (column R), who were included in the payroll for the first time during the reporting period. Entries in lines 1 through 9 (shaded area) of columns O through R are optional.

Maximum and minimum number of employees: The contractor must report the maximum and minimum number of persons it employed during the reporting period.

DEFINITIONS

Hiring location means an establishment as defined at 41 CFR 61-250.2(b).

Special disabled veteran means:

(i) A veteran of the U.S. military, ground, naval or air service who is entitled to compensation (or who but for the receipt of military retired pay would be entitled to compensation) under laws administered by the Department of Veterans Affairs for a disability:

(A) Rated at 30 percent or more, or

(B) Rated at 10 or 20 percent in the case of a veteran who has been determined under section 38 U.S.C. 3106 to have a serious employment handicap; or

(ii) A person who was discharged or released from active duty because of a service-connected disability.

Veteran of the Vietnam era means a veteran:

(i) who served on active duty in the U.S. military, ground, naval or air service for a period of more than 180 days, and who was discharged or released therefrom with other than a dishonorable discharge, if any part of such active duty was performed:

(A) in the Republic of Vietnam between February 28, 1961, and May 7, 1975, or

(B) between August 5, 1964 and May 7, 1975 in any other location; or

(ii) who was discharged or released from active duty in the U.S. military, ground, naval or air service for a service-connected disability, if any part of such active duty was performed:

(A) in the Republic of Vietnam between February 28, 1961, and May 7, 1975; or

(B) between August 5, 1964, and May 7, 1975, in any other location.

Other veterans means any other veterans who served on active duty in the U.S. military, ground, naval or air service during a war or in a campaign or expedition for which a campaign badge has been authorized.

LEGAL BASIS FOR REPORTING REQUIREMENTS

Title 38, United States Code, Section 4212(d), requires that Federal contractors and subcontractors report at least annually on the number of current employees in each job category and at each hiring location who are special disabled veterans, the number who are veterans of the Vietnam era, and the number who are other veterans who served on active duty during a war or in a campaign or expedition for which a campaign badge has been authorized. Also required are the total number of new hires during the reporting period, the number of new hires who fall into each of the three categories of veterans listed above, and the maximum and minimum number of persons employed during the reporting period. The regulations implementing these statutory provisions are found at 41 CFR 61-250.

DESCRIPTION OF JOB CATEGORIES

Officials and managers means occupations requiring administrative and managerial personnel who set broad policies, exercise overall responsibility for execution of these policies, and direct individual departments or special phases of a firm's operation. Includes: Officials, executives, middle management, plant managers, department managers and superintendents, salaried supervisors who are members of management, purchasing agents and buyers, railroad conductors and yard masters, ship captains and mates (except fishing boats), farm operators and managers, and kindred workers.

Professionals means occupations requiring either college graduation or experience of such kind and amount as to provide a background comparable to college education. Includes: Accountants and auditors, airplane pilots and navigators, architects, artists, chemists, designers, dietitians, editors, engineers, lawyers, librarians, mathematicians, natural scientists, registered professional nurses, personnel and labor relations specialists, physical scientists, physicians, social scientists, surveyors, teachers, and kindred workers.

Technicians means occupations requiring a combination of basic scientific knowledge and manual skill which can be obtained through about 2 years of post-high school education, such as is offered in many technical institutes and junior colleges, or through equivalent on-the-job training. Includes: Computer programmers and operators, drafters, engineering aides, junior engineers, mathematical aides, licensed, practical or vocational nurses, photographers, radio operators, scientific assistants, technical illustrators, technicians (medical, dental, electronic, physical science), and kindred workers.

Sales means occupations engaging wholly or primarily in direct selling. Includes: Advertising agents and sales workers, insurance agents and brokers, real estate agents and brokers, stock and bond sales workers, demonstrators, sales workers and sales clerks, grocery clerks and cashier-checkers, and kindred workers.

Office and clerical includes all clerical-type work regardless of level of difficulty, where the activities are predominantly non-manual though some manual work not directly involved with altering or transporting the products is included. Includes bookkeepers, cashiers, collectors (bills and accounts), messengers and office helpers, office machine operators, shipping and receiving clerks, stenographers, typists and secretaries, telegraph and telephone operators, legal assistants, and kindred workers.

Craft Workers (skilled) means manual workers of relatively high skill level having a thorough and comprehensive knowledge of the processes involved in their work. These workers exercise considerable independent judgment and usually receive an extensive period of training. Includes: The building trades, hourly paid supervisors and lead operators who are not members of management, mechanics and repairers, skilled machining occupations, compositors and typesetters, electricians, engravers, job setters (metal), motion picture projectionists, pattern and model makers, stationary engineers, tailors, arts occupations, hand painters, coaters, decorative workers, and kindred workers.

Operatives (semiskilled) means workers who operate machine or processing equipment or perform other factory-type duties of intermediate skill level which can be mastered in a few weeks and require only limited training. Includes: Apprentices (auto mechanics, plumbers, bricklayers, carpenters, electricians, machinists, mechanics, building trades, metalworking trades, printing trades, etc.), operatives, attendants (auto service and parking), blasters, chauffeurs, delivery workers, dressmakers and sewers (except factory), dryers, furnace workers, heaters (metal), laundry and dry cleaning operatives, milliners, mine operatives and laborers, motor operators, oilers and greasers (except auto), painters (except construction and maintenance), photographic process workers, stationary firefighters, truck and tractor drivers, weavers (textile), welders and flamecutters, electrical and electronic equipment assemblers, butchers and meat cutters, inspectors, testers and graders, handpackers and packagers, and kindred workers.

Laborers (unskilled) means workers in manual occupations which generally require no special training to perform elementary duties that may be learned in a few days and require the application of little or no independent judgment. Includes: garage laborers, car washers and greasers, gardeners (except farm) and grounds keepers, stevedores, wood choppers, laborers performing lifting, digging, mixing, loading and pulling operations, and kindred workers.

Service Workers means workers in both protective and non-protective service occupations. Includes: Attendants (hospital and other institutions, professional and personal service, including nurses aides and orderlies), barbers, charworkers and cleaners, cooks (except household), counter and fountain workers, elevator operators, firefighters and fire protection workers, guards, doorkeepers, stewards, janitors, police officers and detectives, porters, servers, amusement and recreation facilities attendants, guides, ushers, public transportation attendants, and kindred workers.

(b) Contractors and subcontractors that submit computer-generated output to satisfy their VETS-100 reporting obligations must submit the output in the form of an electronic file. This file must comply with current Department of Labor specifications for the layout of these records, along with any other specifications established by the Department for the applicable reporting year. Contractors and subcontractors that submit VETS-100 Reports for ten locations or less are exempt from this requirement, but are strongly encouraged to submit an electronic file. In these cases, state consolidated reports count as one location each.

(c) Small companies may wish to submit the VETS-100 Report via the Internet. The Internet address for the site is http://nvti.cudenver.edu/vets/vets100login.htm. A company number is required to access this site. The number is provided to employers on the VETS-100 Report form that is mailed annually to those employers who are included in the VETS-100 database. Other employers may obtain a company number by e-mailing their request to newcompany@vets100.com, or by calling the VETS-100 Reporting System at (703) 461-2460.

(d) OASVET or its designee will use all available information to distribute the required forms to contractors identified as subject to the requirements of this part.

(e) It is the responsibility of each contractor or subcontractor to obtain necessary supplies of the VETS-100 Report form before the annual September 30 filing deadline. Contractors and subcontractors who do not receive forms should request them in time to meet the deadline. Requests for the VETS-100 Report form may be made by mail by contacting: Office of the Assistant Secretary for Veterans' Employment and Training, U.S. Department of Labor, 200 Constitution Avenue, NW, Washington, DC 20210, Attn: VETS-100 Report Form Request or on the Internet at http://nvti.cudenver.edu/vets/vets100.asp

§ 61-250.12 What invitation to self-identify must a contractor offer to veterans?

Each contractor and subcontractor subject to the reporting requirements at 38 U.S.C. 4212(d) must invite all applicants for employment who are special disabled veterans, veterans of the Vietnam era, or other veterans as defined in § 61-250.2, and who wish to benefit under the affirmative action program at 38 U.S.C. 4212, to identify themselves to the contractor. The invitation must state that the information is voluntarily provided, that the information will be kept confidential, that disclosure or refusal to provide the information will not subject the applicant to any adverse treatment, and that the information will be used only in accordance with the regulations implemented under 38 U.S.C. 4212. Nothing in this section precludes an employee from informing a contractor or subcontractor at a future time of his or her desire to benefit from this program. Nothing in this section relieves a contractor from liability for discrimination under 38 U.S.C. 4212.

§ 61-250.20 How will DOL determine whether a contractor or subcontractor is complying with the requirements of this part?

During the course of a compliance evaluation, OFCCP may determine whether a contractor or subcontractor has submitted its report as required by this part.

§ 61-250.99 What are the OMB control numbers for this part?

Pursuant to the Paperwork Reduction Act, 44 U.S.C. 3501 et seq., and its implementing regulations at 5 CFR part 1320, the Office of Management and Budget has assigned Control No. 1293-0005 to the information collection requirements of this part.

BILLING CODE 4510-79-P

Appendix A to Part 61-250

[FR Doc. 00-25446 Filed 10-4-00; 8:45 am]

BILLING CODE 4510-79-C